INTERNATIONAL TRADE COMMISSION

Sunshine Act Meeting

AGENCY HOLDING MEETING: United States International Trade Commission.

TIME AND DATE: February 22, 2001 at 2 p.m.

PLACE: Room 101, 500 E Street SW., Washington, DC 20436, Telephone: (202) 205-2000.

STATUS: Open to the public.

MATTERS TO BE CONSIDERED:

1. Agenda for future meeting: None.

2. Minutes.

3. Ratification List.

4. Inv. Nos. 731-TA-919-920 (Preliminary) (Certain Welded Large Diameter Line Pipe from Japan and Mexico)—briefing and vote. (The Commission is currently scheduled to transmit its determination to the Secretary of Commerce on February 26, 2001; Commissioners' opinions are currently scheduled to be transmitted to the Secretary of Commerce on March 5, 2001.)

5. Outstanding action jackets: None.

In accordance with Commission policy, subject matter listed above, not disposed of at the scheduled meeting, may be carried over to the agenda of the following meeting.

Issued: February 13, 2001.
By order of the Commission.
Donna R. Koehnke,
Secretary.

[FR Doc. 01-4014 Filed 2-13-01; 8:45 am]

BILLING CODE 1020-02-P